DEPARTMENT OF HEALTH AND HUMAN SERVICES

Centers for Disease Control and Prevention

[Program Announcement 01069]

Cooperative Agreement for Suicide Prevention Research Center; Notice of Availability of Funds

A. Purpose

The Centers for Disease Control and Prevention (CDC) announces the availability of fiscal year (FY) 2001 funds for a cooperative agreement program for a Suicide Prevention Research Center (SPRC). This program addresses the “Healthy People 2010” focus area of Violent and Abusive Behavior and Unintentional Injuries. The purpose of this cooperative agreement is to support existing activities of an SPRC that target at-risk populations including American Indian/Alaskan Natives, African-American males, young adolescents and the elderly. SPRC activities include both research-related projects and efforts to facilitate and/or coordinate suicide prevention efforts for a geographically defined area. Examples of these activities include, but are not limited to: (1) Behavioral research of populations at-risk for suicide, and the (2) development and evaluation of a suicide surveillance system that includes information collected from multiple data sources.

B. Eligible Applicants

Applications may be submitted by public and private nonprofit organizations and by governments and their agencies; that is, universities, colleges, research institutions, hospitals, other public and private nonprofit organizations, State and local governments or their bona fide agents, including the District of Columbia, the Commonwealth of Puerto Rico, the Virgin Islands, the Commonwealth of the Northern Mariana Islands, American Samoa, Guam, the Federated States of Micronesia, the Republic of the Marshall Islands, and the Republic of Palau, federally recognized Indian tribal governments, Indian tribes, or Indian tribal organizations.

To be eligible, applicants must provide the following:

1. Acceptable documentation, at a minimum, includes a letter from the director of the agency authorizing access to the records delineating what records/data are available for use and by whom, the time of availability of records and the specific calendar years, the availability of unique identifiers, how the records/data can be used, etc.;

2. How the records/data are to be linked, the existence of a unified database, and existing infrastructure to conduct the suicide prevention research;

3. Evidence of existing staff and resources to carry out the activities; and 4) evidence of existing partnerships with national, state, and local suicide prevention agencies that includes letters from all agencies from the director of the agency, documenting the nature of the partnership, the length of the relationship, what role and/or resources provided, etc.

The documentation to fulfill the eligibility requirement must appear immediately following the face sheet of the application. All documentation must appear on agency letterhead. Applications that fail to submit evidence of the above will be considered non-responsive and will be returned without review.

Note: Title 2 of the United States Code, chapter 26, section 1611 states that an organization described in section 501(c)(4) of the Internal Revenue Code of 1986 that engages in lobbying activities is not eligible to receive Federal funds constituting an award, grant, cooperative agreement, contract, loan, or any other form.

C. Availability of Funds

Approximately $400,000 is available in fiscal year (FY) 2001 to fund one award. It is expected that the award will begin on or about September 1, 2001, and will be made for a 12-month budget period within a project period of up to three years. Funding estimates may change.

Continuation awards within an approved project period will be made on the basis of satisfactory progress as evidenced by required reports and the availability of funds.

D. Programmatic Interest

Specific research activities of particular interest to CDC are:

1. Evaluation of the benefits resulting from the development of a unified suicide surveillance system as described above and an assessment of the barriers encountered during the development phase;

2. Identification of existing state and regional suicide prevention efforts;

3. Determination of existing death investigation protocols used by medical examiners and coroners regarding suicide; and the

4. Development of recommendations for a standard protocol to aid in the investigative process improvement of these protocols.

E. Program Requirements

The following are applicant requirements:

1. Demonstrate expertise in some form of suicide behavior prevention research as a core component of the SPRC (as defined in the Section Background and Definitions of the program announcement included in the application kit).

2. Provide a director (Principal Investigator) who has specific authority and responsibility to carry out the project.

3. Provide a Program Coordinator/Manager, with suicidal behavior research expertise, who will be responsible for day to day programmatic and fiscal management, establishment and maintenance of communication between and among members of the expert panel, national advisory committee(s), community advisory committee, and other organizations and agencies, including CDC.

F. Cooperative Agreement Activities

In conducting activities to achieve the purpose of this program, the recipient will be responsible for the activities under 1. (Recipient Activities), and CDC will be responsible for the activities listed under 2. (CDC Activities).

1. Recipients Activities

a. Conduct epidemiologic research regarding suicide and suicidal behavior. Such research should provide information about potentially modifiable risk and protective factors that can be used as a basis to develop prevention programs or identify avenues for intervention.

b. Collaborate with outside agencies and other entities which will allow for implementation of any proposed intervention activities. At least one of the agencies must be a national organization that has suicide prevention as its major objective and whose members are actively engaged in suicide prevention activities. Provide evidence of established relationships, demonstrated by letters of commitment, with suicide prevention programs being carried out in the State or region in which the SPRC is located. Cooperation with private-sector programs is encouraged.

c. Collaborate with specialists or experts in medicine, epidemiology, behavioral and social sciences, and/or public health as needed to complete the plans of the SPRC. These are considered the disciplines and fields for the SPRC.

d. Establish a community advisory board composed of representatives from public health, mental health, social services, community-based organizations and suicide survivors (family members, friends, etc., who have experienced the loss of a loved one due to suicide) who have an interest in suicide prevention.

e. Coordinate geographic efforts within the state and region to be served by the SPRC.

f. Facilitate and/or coordinate suicide prevention efforts to address the elimination of health disparities among minority populations with disproportionate burdens of adverse health outcomes.

g. Publicize and disseminate the findings.

2. CDC Activities

a. Assist in the development of a research protocol for Institutional Review Board (IRB) review. The CDC IRB will review and approve the protocol initially and on at least an annual basis until the research is completed.

b. Provide technical assistance, as needed, to the SPRC.

c. Assist in the publicizing and dissemination of the findings.

G. Application Content

Use the information in the Program Requirements, Other Requirements, and Evaluation Criteria sections to develop the application content. Your application will be evaluated on the criteria listed, so it is important to follow them in laying out your program plan.

H. Submission and Deadline

Submit the original and five copies of PHS-398 (OMB Number 0925-0001) [(adhere to the instructions on the Errata Instruction Sheet for PHS 398)]. Forms are available at the following Internet address: www.cdc.gov./od/pgo/forminfo.htm or in the application kit.

On or before July 9, 2001, submit the application to the Grants Management Specialist identified in the “Where to Obtain Additional Information” section of this announcement.

Deadline: Applications shall be considered as meeting the deadline if they are either:

(a) Received on or before the deadline date; or

(b) Sent on or before the deadline date and received in time for submission to the independent review group. (Applicants must request a legibly dated U.S. Postal Service postmark or obtain a legibly dated receipt from a commercial carrier or U.S. Postal Service. Private metered postmarks shall not be acceptable as proof of timely mailing.)

Late Applications: Applications which do not meet the criteria in (a) or (b) above are considered late applications, will not be considered, and will be returned to the applicant.

I. Evaluation Criteria

Each application will be evaluated individually against the following criteria by an independent review group appointed by CDC.

Applicants will be evaluated according to the following criteria (Maximum of 100 total points):

1. Core Faculty, Staff, and Organizational Capacity (30 points)

a. Core faculty: Qualifications, experience, and/or ability of core faculty in conducting research relevant to suicide prevention. Faculty history and experience in receiving research support from competitive sources of funding.

b. Staffing plan: Qualifications, adequacy, appropriateness of personnel, level of effort devoted to the SPRC, and ability to accomplish the proposed activities. The director must report to an appropriate institutional official, e.g., dean of a school, vice president of a university, or commissioner of health and devote not less than 30 percent effort solely to this project. The Project Coordinator or Manager must be a full-time equivalent (1FTE) who is responsible for managing the day to day activities of the SPRC and responsible for providing coordination among and between the national, state, and local organizations, the expert panel, and the community advisory board.

c. Organizational capacity: Existence and availability of organizational resources and support for achieving research and prevention goals.

2. Organizational Collaboration (30 points)

a. The extent to which the applicant describes the nature of the collaborative relationships (joint activities and access to the collaborative organization's membership for promoting prevention activities).

b. The extent to which one of the collaborating organizations is a national organization that has suicide prevention as its major objective and whose members are actively engaged in suicide prevention activities.

c. The extent to which the applicant documents geographic coordination of all suicide prevention efforts within the state and region to be served by the SPRC to include but not limited to surveillance efforts, involvement of experts and national organization and others referenced in the program requirements, inventory of evaluated diverse suicide prevention programs targeting a representative mixture of target groups, the inclusion of and linkage of disparate data sources, etc.

3. Research and Prevention Plan (40 points)

a. The extent to which the applicant documents a high incidence of suicide in the state and region to be served. The extent to which the applicant documents the public health impact of suicide within the state and region to be served by the SPRC.

b. The extent to which the applicant has the capacity to develop a research plan that identifies and is responsive to needed research in the area of suicide prevention.

c. The extent to which the applicant documents plans to develop a model self-directed violence surveillance system that has the capacity to link records between disparate data bases either within a specific geographic area (e.g., including the state and region). At a minimum, the applicant should document access to uniform hospital discharge data bases, trauma registries, and vital statistics.

d. The extent to which the applicant documents the ability of the surveillance system to identify geographic areas with a high incidence of attempted or completed suicides.

e. The extent to which the system have the capability to identify demographic groups at high risk, e.g., racial/ethnic groups, age, economic class, etc.

f. The extent to which the applicant documents utility of a standard protocol for follow-back studies to aid in the investigative process to validate or invalidate undetermined causes of death. Specifically, can the data collection and analysis enhance the follow-back study process to address the following issues: determine the manner of death in equivocal or undetermined deaths, establish the decedent's intent to die, and establish motivations for suicide and pathways toward suicidal death.

g. The extent to which the applicant describes the distribution of suicidal behavior/correlates in a state and region, and plans to develop and pilot test suicide questions for future use in state level surveys.

h. The extent to which the applicant can identify existing instate and inter-region suicide prevention programs, in existence for a minimum of five years and have been evaluated, that target a representative mixture of target groups, specifically African-American males and Native American/Alaska Natives, and young adolescents and the elderly. The inventory of existing prevention programs, referenced above, should represent a diversity of intervention strategies and settings.

i. The extent to which the applicant documents how specific activities address minority populations with disproportionate burdens of adverse health outcomes.

j. The degree to which the applicant will meet the CDC Policy requirements regarding the inclusion of women, ethnic, and racial groups in the proposed research. This includes:

1. The proposed plan for the inclusion of both sexes and racial and ethnic minority populations appropriate representation.

2. The proposed justification when representation is limited or absent.

3. A statement as to whether the design of the study is adequate to measure differences when warranted.

4. A statement as to whether the plans for recruitment and outreach for study participants include the process of establishing partnerships with community(ies) and recognition of mutual benefits.

4. Budget (not scored)

The extent to which the budget is reasonable, clearly justified, and consistent with stated objectives and proposed activities. Soundness of the proposed budget in terms of adequacy of resources and their allocation.

5. Human Subjects (Not scored; however an application can be disapproved if the research risks are sufficiently serious and protection against risks is so inadequate as to make the entire application unacceptable.) Does the application adequately address the requirements of Title 45 CFR 46 for the protection of human subjects?

Yes _ No _

J. Other Requirements

1. Technical Reporting Requirements Provide CDC with original plus two copies of

a. progress reports (semiannual);

b. financial status report, no more than 90 days after the end of the budget period;

c. final financial report and performance report, no more than 90 days after the end of the project period.

Send all reports to the Grants Management Specialist identified in the “Where to Obtain Additional Information” section of this announcement.

2. Additional Requirements

The following additional requirements are applicable to this program. For a complete description of each see Attachment I of the announcement.

AR-1 Human Subjects Requirements

AR-2 Requirements for Inclusion of Women and Racial and Ethnic Minorities in Research

AR-10 Smoke-Free Workplace Requirements

AR-11 Healthy People 2010

AR-12 Lobbying Restrictions

AR-13 Prohibition of Use of CDC Funds for Certain Gun Control Activities

AR-21 Small Minority

AR-22 Research Integrity

K. Authority and Catalog of Federal Domestic Assistance Number

This program is authorized under the Public Health Service Act 301, 317, and 391-394A (42 U.S.C. section 241, 247b and 280b-280b-3), as amended. The Catalog of Federal Domestic Assistance number is 93.136.

L. Where to Obtain Additional Information

This and other CDC announcements can be found on the CDC homepage Internet address— http://www.cdc.gov. Click on “Funding” then “Grants and Cooperative Agreements.”

To receive additional written information and to request an application kit, call 1-888-GRANTS4 (1-888-472-6874). You will be asked to leave your name and address and will be instructed to identify the Announcement number of interest.

If you have questions after reviewing the contents of all the documents, business management technical assistance may be obtained from: Angie Nation, Grants Management Specialist, Grants Management Branch, Procurement and Grants Office, Centers for Disease Control and Prevention, 2920 Brandywine Road, Suite 3000, Atlanta, GA 30341-4146, Telephone: (770) 488-2719, E-mail address: aen4@cdc.gov.

For program technical assistance, contact: M. Joyce McCurdy, Deputy, Etiology and Surveillance Branch, National Center for Injury Prevention and Control, Division of Violence Prevention, Mailstop K60, 4770 Buford Highway, Atlanta, GA 30341-3717, Telephone number: (770) 488-4410, Email address: jmm6@cdc.gov.

Dated: May 2, 2001.
John L. Williams,
Director, Procurement and Grants Office Centers for Disease Control and Prevention (CDC).

[FR Doc. 01-11614 Filed 5-8-01; 8:45 am]

BILLING CODE 4163-18-P